COMMISSION ON CIVIL RIGHTS

Agenda and Notice of a Public Meetings of the Maine Advisory Committee

AGENCY: Commission on Civil Rights.

ACTION: Announcement of a public meetings.

SUMMARY: Notice is hereby given, pursuant to the provisions of the rules and regulations of the U.S. Commission on Civil Rights (Commission), and the Federal Advisory Committee Act (FACA), that the Maine State Advisory Committee to the Commission will hold virtual meetings for project planning on Thursday, March 31, 2022, at 2:00 p.m. (ET); Thursday, April 28, 2022, at 12:00 p.m. (ET); and Wednesday, May 4, 2022, at 12:00 p.m. (ET).

DATES:

• Thursday, March 31, 2022, at 2:00 p.m. (ET):

○ Link to join by web conference: https://tinyurl.com/5n6sph4w.

○ Numbers to join by phone only: 1-800-360-9505; Access code: 2764 785 1281#.

• Thursday, April 28, 2022, at 12:00 p.m. (ET):

○ Link to join by web conference: https://tinyurl.com/2p88y3m7.

○ Numbers to join by phone only: 1-800-360-9505; Access code: 2764 523 9881#.

• Wednesday, May 4, 2022, at 12:00 p.m. (ET):

○ Link to join by web conference: https://tinyurl.com/2p85e6cx.

○ Numbers to join by phone only: 1-800-360-9505; Access code: 2764 507 9906#.

FOR FURTHER INFORMATION CONTACT: Mallory Trachtenberg at mtrachtenberg@usccr.gov or by phone at (202) 809-9618.

SUPPLEMENTARY INFORMATION: These meetings are available to the public through the WebEx link above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for these meetings.

Members of the public are entitled to make comments during the open period at the end of the meetings. Members of the public may also submit written comments; the comments must be received in the Regional Programs Unit within 30 days following the meeting. Written comments may be emailed to Mallory Trachtenberg at mtrachtenberg@usccr.gov. Persons who desire additional information may contact the Regional Programs Unit at (202) 539-8246. Records and documents discussed during the meetings will be available for public viewing as they become available at www.facadatabase.gov. Persons interested in the work of this advisory committee are advised to go to the Commission's website, www.usccr.gov, or to contact the Regional Programs Unit at the above phone number or email address.

Agenda

March 31 (2 p.m. ET), April 28 (12 p.m. ET), and May 4 (12 p.m. ET), 2022

I. Welcome and Roll Call

II. Announcements and Updates

III. Approval of Minutes

IV. Discussion: Project Planning

V. Public Comment

VI. Adjournment

Dated: February 25, 2022.
David Mussatt,
Supervisory Chief, Regional Programs Unit.

[FR Doc. 2022-04438 Filed 3-2-22; 8:45 am]

BILLING CODE P